DEPARTMENT OF JUSTICE

Notice of Lodging of Consent Decree Pursuant to the Clean Air Act

Notice is hereby given that a proposed consent decree in United States v. Gulf Oil L.P., and Catamount Management Co., Civ. No. 3:98CV2226 (AVC), was lodged on July 5, 2001 with the United States District Court for the District of Connecticut. The consent decree would resolve this action as the Gulf Oil, L.P. and Catamount Management Co., as a general partner in Gulf Oil L.P., (collectively, “Gulf”), against whom the United States asserted a claim for penalties on behalf of the United States Environmental Protection Agency under 42 U.S.C. 7401 et seq., the Connecticut State Implementation Plan, authorized pursuant to Section 110 of the Act, 42 U.S.C. 7210, and the New Source Performance Standards for Bulk Gasoline Terminals (“NSPS”), 40 CFR Part 60, Subpart XX, for violations which took place at a bulk gasoline terminal in New Haven, Connecticut. The Complaint, which was filed in November 1998, seeks penalties for (1) failure to apply for and obtain valid pre-construction and operating permits for changes made to gas loading bays in 1993; (2) failure to conduct performance tests of emissions of volatile organic compound (“VOCs”) from the Terminal in 1994; (3) failure to apply for and obtain permits to construct and operate one of its liquid storage tanks (Tank 1 13) at the Terminal; (4) emission of excess VOCs from on or about March 7, 1997, through on or about March 10, 1997; and (5) failure to maintain emission controls according to good air pollution practices. Under the Consent Decree, Gulf will pay $40,000 in a civil penalty, and will perform supplemental environmental projects (“SEPs”) designed to reduce VOC emissions at Gulf facilities at a minimum cost of $421,000. Gulf will be required to limit gasoline throughput so as to qualify as a minor source of VOCs, and to apply to the Connecticut Department of Environmental Protection (“CT DEP”) for a permit amendment that restricts its potential emissions to minor source levels. For the SEPS, Gulf will make improvements to gasoline storage tanks at its facilities in Connecticut, Massachusetts, Maine, Pennsylvania, and New Jersey.

The Department of Justice will receive, for a period of thirty (30) days from the date of this publication, comments relating to the proposed consent decree. Comments should be addressed to the Assistant Attorney General, Environment and Natural Resources Division, P.O. Box 7611, U.S. Department of Justice, Washington, D.C. 20044-7611, and should refer to United States v. Gulf Oil L.P. and Catamount Management Co., DOJ Ref. # 90-5-2-1-06457.

The proposed consent decree may be examined at the office of the United States Attorney for the District of Connecticut, 157 Church Street, 23rd Floor, New Haven, Connecticut 06510 (contact Assistant United States Attorney Carolyn Ikari); and the Region I Office of the Environmental Protection Agency, 1 Congress Street, Suite 1100, Boston, Massachusetts 02114-2023 (contact Senior Enforcement Counsel, Thomas T. Olivier). A copy of the proposed consent decree may be obtained by mail from the Consent Decree Library, P.O. Box 7611, Washington, D.C. 20044-7611. In requesting a copy please refer to the reference case and enclose a check in the amount of $6.25 (25 cents per page reproduction costs) for the Consent Decree without Appendices, or in the amount of $7.00 for the Consent Decree with all Appendices, payable to the Consent Decree Library.

Bruce S. Gelber,
Section Chief, Environmental Enforcement Section; Environment and Natural Resources Division.

[FR Doc. 01-21324 Filed 8-22-01; 8:45 am]

BILLING CODE 4410-15-M